DEPARTMENT OF LABOR

Employment and Training Administration

[TA-W-72,500]

Hardinge, Inc., Including On-Site Leased Workers of Manpower and Employment Solutions, Elmira, NY; Amended Certification Regarding Eligibility To Apply for Worker Adjustment Assistance

In accordance with Section 223 of the Trade Act of 1974, as amended (“Act”), 19 U.S.C. 2273, the Department of Labor issued a Certification of Eligibility to Apply for Worker Adjustment Assistance on November 5, 2009, applicable to workers of Hardinge, Inc., including on-site leased workers from Manpower, Elmira, New York. The notice will be published in the Federal Register soon.

At the request of the State Agency and company official, the Department reviewed the certification for workers of the subject firm. The workers are engaged in activities related to the production machine tools and accessory products.

The company reports that on-site leased workers from Employment Solutions were employed on-site at the Elmira, New York location of Hardinge, Inc. The Department has determined that these workers were sufficiently under the control of the subject firm to be considered leased workers.

Based on these findings, the Department is amending this certification to include workers leased from Employment Solutions, working on-site at the Elmira, New York location of Hardinge, Inc.

The amended notice applicable to TA-W-72,500 is hereby issued as follows:

All workers of Hardinge, Inc., Elmira, New York including on-site leased workers from Manpower and Employment Solutions, who became totally or partially separated from employment on or after September 29, 2008, through November 5, 2011, and all workers in the group threatened with total or partial separation from employment on date of certification through two years from the date of certification, are eligible to apply for adjustment assistance under Chapter 2 of Title II of the Trade Act of 1974, as amended.

Signed in Washington, DC, this 4th day of February, 2010.
Richard Church,
Certifying Officer, Division of Trade Adjustment Assistance.

[FR Doc. 2010-4241 Filed 3-1-10; 8:45 am]

BILLING CODE 4510-FN-P